DEPARTMENT OF COMMERCE

National Oceanic and Atmospheric Administration

RIN 0648-XD326

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will hold meetings of the: Administrative Policy, Joint Coral/Habitat Protection, Red Drum, Advisory Panel Selection, Reef Fish, Shrimp, Data Collection, Outreach and Education and Sustainable Fisheries/Ecosystem Management Committees; and a meeting of the Full Council. The Council will also hold a formal public comment session.

DATES: The Council meeting will be held from 8:30 a.m. on Monday, June 23 until 11:30 a.m. on Friday, June 27, 2014.

ADDRESSES:

Meeting Address: The meeting will be held at the Marriott Key West Beachside Hotel, 3841 N. Roosevelt Boulevard, Key West, FL 33040; telephone: (800) 546-0885.

Council Address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Administrative Policy Committee Agenda, Monday, June 23, 2014, 8:30 a.m. until 12 noon

1. Review and Approval of Draft Administrative Handbook

2. Review of House and Senate Magnuson-Stevens Act Amendment

—Recess—

Joint Coral/Habitat Protection Committees Agenda, Monday, June 23, 2014, 1:30 p.m. until 2:30 p.m.

1. Summary of the April 2014, Joint Coral Scientific and Statistical Committee/Coral Advisory Panel Meeting

2. Discussion of ESA Coral Listing Final Rule

Red Drum Committee Agenda, Monday, June 23, 2014, 2:30 p.m. until 4 p.m.

1. Review of Territorial Extension of Gulf State Recreational Red Drum Management Scoping Document

Advisory Panel Selection Committee Agenda, Full Council—Closed Session, Monday, June 23, 4 p.m. until 5 p.m.

1. Appointments to the Ad Hoc Red Snapper For-Hire IFQ Advisory Panel

—Recess—

Reef Fish Management Committee Agenda, Tuesday, June 24, 2014, 8:30 a.m. until 11:30 a.m. & 1 p.m. until 5:30 p.m.

1. Discussion of the SEDAR 33 Benchmark Assessments for Gag and Greater Amberjack

2. Review of Amendment 28—Red Snapper Allocation and Recreational Accountability Measures

3. Review of the Red Snapper Slot Limit and Hook Size Analysis

4. Review of Amendment 40—Recreational Red Snapper Sector Separation Public Hearing Draft

5. Final Review of the Correction to Codified Text for IFQ Species Complexes

6. Federal For-Hire Red Snapper Limited Access Privilege Program

7. Discussion of Recreational Red Snapper Management Feedback

—Recess—

Shrimp Committee Agenda, Wednesday, June 25, 2014, 8:30 a.m. until 9:30 a.m.

1. Review of Public Hearing Draft for Shrimp Amendment 15—Status Determination Criteria for Penaeid Shrimp and Adjustments to the Shrimp FMP Framework Procedure

2. Review of the April 2014 ESA Section 7 Consultation on the Continued Implementation of Sea Turtle Conservation Regulations under ESA and the Continued Authorization of the Southeast U.S. Shrimp Fisheries in Federal Waters

3. Update on the Shrimp Workshop

Data Collection Committee Agenda, Wednesday June 25, 2014, 9:30 a.m. until 11:30 a.m.

1. Discussion of Technical Subcommittee for Electronic Charter Boat Reporting Recommendations

2. Update on Headboat Collaborative Program

3. Discussion of Southeast Region's Electronic Monitoring and Reporting Implementation Program

4. Discussion of MRIP Methodology to Monitor Recreational Landings

—Recess—

Outreach and Education Committee Agenda, Wednesday, June 25, 2014, 1 p.m. until 1:30 p.m.

1. Summary of Outreach and Education Advisory Panel Meeting

Sustainable Fisheries/Ecosystem Committee Agenda, Wednesday, June 25, 2014, 1:30 p.m. until 4:30 p.m.

1. Review of the GOM Ecosystem Assessment Status Report

2. Review of the Status Determination Criteria, Optimum Yield, and Red Snapper ACL Designation Options Paper

3. Discussion of the Permits for Veterans Proposal

—Recess—

Council Session Agenda, Wednesday, June 25, 2014, 5 p.m. until 8:15 p.m.

5 p.m.—5:15 p.m.: Call to Order, introductions, adoption of agenda and approval of minutes

5:15 p.m.—8:15 p.m.: The Council will receive public testimony on Final Action—Correction to Codified Text for IFQ Species Complexes, Updated Draft Amendment 28—Red Snapper Allocation and Recreational Accountability Measures. The Council will also hold an open public comment period regarding any other fishery issues or concerns. People wishing to speak before the Council should complete a public comment card prior to the comment period.

—Recess—

Council Session Agenda, Thursday, June 26, 2014, 8:30 a.m. until 4:30 p.m.

8:30 a.m.—10:15 a.m.: The Council will receive the following presentations:

Florida Keys National Marine Sanctuary Status of Management, RESTORE Act Presentation, Summary of NOAA Restoration Science Program Advisory Working Group (RSPAWG), Discussion of RESTORE Act.

10:15 a.m.—4:30 p.m.: The Council will receive committee reports from the Advisory Panel Selection, Red Drum, Outreach and Education, Data Collection, Shrimp, Sustainable Fisheries/Ecosystem and the Administrative Policy.

—Recess—

Council Session Agenda, Friday, June 27, 2014, 9 a.m. until 11:30 a.m.

9 a.m.—11 a.m.: The Council will continue to receive committee reports from the Reef Fish committee.

11 a.m.—11:30 a.m.: The Council will discuss other business.

—Adjourn—

The Agenda is subject to change, and the latest version will be posted on the Council's file server, which can be accessed by going to the Council Web site at http://www.gulfcouncil.org and clicking on FTP Server under Quick Links. The meetings will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: June 3, 2014.
Tracey L. Thompson,
Acting Deputy Director, Office of Sustainable Fisheries, National Marine Fisheries Service.

[FR Doc. 2014-13237 Filed 6-5-14; 8:45 am]

BILLING CODE 3510-22-P